DEPARTMENT OF COMMERCE.

International Trade Administration

A-570-832

Pure Magnesium from the People's Republic of China: Notice of Extension of Final Results of the 2004-2005 Administrative Review

AGENCY: Import Administration, International Trade Administration, Department of Commerce

EFFECTIVE DATE: October 6, 2006.

FOR FURTHER INFORMATION CONTACT: Robert Bolling or Hua Lu, AD/CVD Operations, Office 8, Import Administration, International Trade Administration, U.S. Department of Commerce, 14th Street and Constitution Avenue, NW, Washington DC 20230; telephone: (202) 482-3434 and (202) 482-6478, respectively.

Background

On April 10, 2006, the Department of Commerce (“the Department”) published the preliminary results of the administrative review of the antidumping duty order on pure magnesium from the People's Republic of China (“PRC”). See Pure Magnesium from the People's Republic of China: Preliminary Results of Antidumping Duty Administrative Review, 71 FR 18067 (April 10, 2006) (“Preliminary Results”). In the Preliminary Results, we stated that we would issue our final results of review no later than 120 days after the date of publication of the preliminary results (i.e., August 8, 2006). On July 31, 2006, the Department published in the Federal Register a notice extending the time limit for the final results of the administrative review from August 8, 2006, to September 7, 2006. See Notice of Extension of Final Result of the 2004-2005 Administrative Review of Pure Magnesium from the People's Republic of China, 71 FR 43110 (July 31, 2006). Additionally, on September 12, 2006, the Department published a notice extending the time limit for the final results of review until September 29, 2006. See Notice of Extension of Final Results of the 2004-2005 Administrative Review of Pure Magnesium from the People's Republic of China, 71 FR 53662 (September 12, 2006). The final results of review are currently due no later than September 29, 2006

.

Extension of Time Limit for Final Results

Section 751(a)(3)(A) of the Tariff Act of 1930, as amended (“the Act”), requires the Department to issue the final results in an administrative review within 120 days of publication date of the preliminary results. However, if it is not practicable to complete the review within this time period, the Department may extend the time limit for the final results to 180 days. Completion of the final results within the 120-day period is not practicable because this review involves certain complex issues involving valuation of various factors of production

.

Therefore, we are fully extending the time period for issuing the final results of review to 180 days until October 7, 2006, in accordance with section 751(a)(3)(A) of the Act. However, because October 7, 2006, falls on a Saturday, and the next business day October 9, 2006 is a federal holiday, the final results will be due on October 10, 2006, the next business day. This notice is published pursuant to sections 751(a) and 777(i) of the Act

.

Dated: September 28, 2006.
Stephen J. Claeys,
Deputy Assistant Secretary for Import Administration

[FR Doc. E6-16522 Filed 10-5-06; 8:45 am]

BILLING CODE 3510-DS-S